DEPARTMENT OF COMMERCE

International Trade Administration

[A-201-809]

Certain Cut-to-Length Carbon Steel Plate From Mexico

AGENCY: Import Administration, International Trade Administration, Department of Commerce.

ACTION: Notice of Rescission of Antidumping Duty Administrative Review.

SUMMARY: The Department of Commerce (“the Department”) is rescinding the review it initiated on October 2, 2000, of the antidumping duty order on certain cut-to-length carbon steel plate from Mexico (65 FR 58733).

EFFECTIVE DATE: October 21, 2000.

FOR FURTHER INFORMATION CONTACT: Tom Killiam or Robert James, Import Administration, International Trade Administration, U.S. Department of Commerce, 14th Street and Constitution Avenue, NW., Washington, DC 20230; telephone (202) 482-5222 and 482-0649, respectively.

Applicable Statute and Regulations

Unless otherwise indicated, all citations to the Tariff Act of 1930, as amended (the Tariff Act), are references to the provisions effective January 1, 1995, the effective date of the Uruguay Round Agreements Act (URAA). In addition, unless otherwise indicated, all citations to the Department's regulations are to the regulations codified at 19 CFR part 351 (2000).

Background

On August 31, 2000, the sole respondent, Altos de Hornos de Mexico, S.A. de C.V. (AHMSA), and the petitioners, Bethlehem Steel Corporation, and U.S. Steel Group (a unit of USX Corporation), requested that the Department conduct an administrative review of subject merchandise exported by AHMSA from Mexico to the United States for the period August 1, 1999 through July 31, 2000. On October 2, 2000, the Department published in the Federal Register a notice of initiation of administrative review with respect to AHMSA for that period (65 FR 58733). AHMSA withdrew its request for a review on September 27, 2000; the petitioners withdrew their request on September 28, 2000.

Rescission of Review

Pursuant to 19 CFR 351.213(d)(1), the Department will rescind an administrative review if a party that requested the review withdraws the request within 90 days of the date of publication of the notice of initiation of the requested review. Because both parties' withdrawals were submitted within the 90-day time limit, we are rescinding this review. We will issue appropriate appraisement instructions directly to the U.S. Customs Service.

This notice serves as a reminder to parties subject to administrative protective orders (APO) of their responsibility concerning the disposition of proprietary information disclosed under APO in accordance with 19 CFR 351.305(a)(3). Timely written notification of the return or destruction of APO materials, or conversion to judicial protective order, is hereby requested. Failure to comply with the regulations and terms of an APO is a sanctionable violation.

This notice is in accordance with section 777(i)(1) of the Tariff Act, 19 CFR 351.213(d)(1) and 19 CFR 351.213(d)(4).

Dated: October 20, 2000.
Joseph Spetrini,
Deputy Assistant Secretary, AD/CVD Enforcement Group III.

[FR Doc. 00-27689 Filed 10-26-00; 8:45 am]

BILLING CODE 3510-DS-P